DEPARTMENT OF COMMERCE

National Institute of Standards and Technology

Notice of Public Workshop: Blueprint for Action: Workshop on the Design of the National Network for Manufacturing Innovation (NNMI)

AGENCY: National Institute of Standards and Technology, Department of Commerce.

ACTION: Notice.

SUMMARY: The Advanced Manufacturing National Program Office (AMNPO), housed at the National Institute of Standards and Technology (NIST), announces the first workshop in a new series of public workshops entitled “Blueprint for Action: Workshop on the Design of the National Network for Manufacturing Innovation (NNMI).” This workshop series provides a forum for the AMNPO to present the proposed design of the National Network for Manufacturing Innovation and its regional components, Institutes for Manufacturing Innovation (IMIs), for public discussion of the proposed NNMI and IMI design, and for public discussion of this initiative, announced by President Obama on March 9, 2012.¹ The first workshop will focus on an update on the NNMI program proposed by the President; a review of the public comments received by the AMNPO in response to the May 4, 2012 Request for Information (RFI) on the proposed NNMI; a review of the proposed NNMI design and discussion of that design; and anticipated next steps.

¹ http://www.whitehouse.gov/the-press-office/2012/03/09/remarks-president-manufacturing-and-economy.

The “Blueprint for Action” workshop series is organized by the federal interagency AMNPO, in cooperation with stakeholders and local organizations. AMNPO partner agencies include Department of Commerce, NIST, Department of Defense, Department of Education, Department of Energy's Advanced Manufacturing Office, Department of Labor, National Aeronautics and Space Administration (NASA), and National Science Foundation.

DATES: The first public workshop in this series will be held on Wednesday, January 16, 2013 from 8:30 a.m. until approximately 5:00 p.m. Eastern time. Event check-in will begin at approximately 7:30 a.m. Eastern time. Please see registration information in the SUPPLEMENTARY INFORMATION section below.

ADDRESSES: This public workshop will be held at the U.S. Space and Rocket Center, Davidson Center for Space Exploration, One Tranquility Base, Huntsville, Alabama 35805 (1-800-637-7223).

FOR FURTHER INFORMATION CONTACT: Michael Schen, (301) 975-6741, michael.schen@nist.gov; Steven Schmid, (301) 975-8652, steven.schmid@nist.gov; or Adele Ratcliff, (571) 372-6240, adele.ratcliff@osd.mil. Additional information may also be found at: http://manufacturing.gov/event_011613.html.

SUPPLEMENTARY INFORMATION:

Legal Authority: 15 U.S.C. 272(b)(1).

Members of the public wishing to attend this public workshop are encouraged to register in advance and may do so online through the event Web site: http://www.manufacturing.gov/event_011613.html. Space is limited. Registration will be on a first-come, first-served basis, with no more than four representatives from the same organization accepted. Advance online registration will close at 11:59 p.m. Eastern time, Monday, January 7, 2013 or when all spaces have been filled, whichever occurs first. After advance online registration closes, registration will be permitted only on a first-come, first-served basis on the day of the event, on site, should space become available. Please check the event Web site, http://www.manufacturing.gov/event_011613.html, for space availability information. Early registration is encouraged.

The proposed NNMI initiative focuses on strengthening and ensuring the long-term competitiveness and job-creating power of U.S. manufacturing. The constituent IMIs will bring together industry, universities and community colleges, federal agencies, and U.S. states to accelerate innovation by investing in industrially-relevant manufacturing technologies with broad applications to bridge the gap between basic research and product development, provide shared assets to help companies—particularly small manufacturers—access cutting-edge capabilities and equipment, and create an unparalleled environment to educate and train students and workers in advanced manufacturing skills. The President's proposed FY 2013 budget includes $1 billion for this proposed initiative.

Each IMI will serve as a regional hub of manufacturing excellence, providing the innovation infrastructure to support regional manufacturing and ensuring that our manufacturing sector is a key pillar in an economy that is built to last. Each IMI also will have a well-defined technology focus to address industrially relevant manufacturing challenges on a large scale and to provide the capabilities and facilities required to reduce the cost and risk of commercializing new technologies.

On December 15, 2011, Commerce Secretary John Bryson announced the establishment of a national program office within the Department of Commerce to coordinate and help implement the President's advanced manufacturing partnership.² The AMNPO, hosted by NIST, is charged with convening and enabling industry-led, private-public partnerships focused on manufacturing innovation and engaging U.S. universities and designing and implementing an integrated national advanced manufacturing initiative to facilitate collaboration and information-sharing across federal agencies.

² http://www.commerce.gov/news/press-releases/2011/12/16/commerce-secretary-john-bryson-lays-out-vision-department-commerce.

On May 4, 2012 the AMNPO issued a Request for Information (RFI), seeking public comment on specific questions related to the structure and operations of the NNMI and IMIs. The RFI was published in the Federal Register (77 FR 26509) and may be found at: http://www.gpo.gov/fdsys/pkg/FR-2012-05-04/pdf/2012-10809.pdf. Comments in response to the RFI were due on or before 11:59 p.m. Eastern time on October 25, 2012. All comments received in response to the RFI are available online at http://www.manufacturing.gov/rfi_responses.html.

The AMNPO has previously held four NNMI workshops as part of its strategy for soliciting nation-wide input on building the NNMI in alignment with the published RFI. The first workshop was held on April 25, 2012, at Rensselaer Polytechnic Institute in Troy, New York, the second on July 9, 2012 at Cuyahoga Community College in Cleveland, Ohio, the third on September 27, 2012 at the Arnold and Mabel Beckman Center of the National Academies of Sciences and Engineering in Irvine, California, and the fourth on October 18, 2012 at the Millennium Harvest House in Boulder, Colorado.

Announcements of additional workshops may be found at: http://www.manufacturing.gov/events.html. Future workshops will also be announced in the Federal Register.

Dated: November 26, 2012.
Phillip Singerman,
Associate Director for Innovation and Industry Services.

[FR Doc. 2012-29042 Filed 11-29-12; 8:45 am]

BILLING CODE 3510-13-P